DEPARTMENT OF AGRICULTURE

Forest Service

Wildland Urban Interface Project; Caribou-Targhee National Forest, Fremont County, ID

AGENCY: Forest Service, USDA.

ACTION: Notice of intent to prepare an environmental impact statement.

SUMMARY: The U.S. Department of Agriculture, Forest Service is beginning to prepare an environmental impact statement (EIS) to document the analysis and disclose the environmental impacts of the Wildland Urban Interface Project in Island Park, ID. Within the project area, different treatment methods would be used to reduce the fire hazard depending upon the forest and fuel conditions. In the young and regenerated noncommercial lodgepole pine stands, trees would be thinned. Fuel reductions in larger diameter stands would be in the form of shaded fuel breaks. The shaded fuel breaks would be located in tactically important areas to provide firefighters an anchor from which to safely fight fire. Proposed fuel breaks would be up to 500 feet wide. These fuel breaks would be created along the interface between National Forest Service land and private property.

DATES: Comments concerning the scope of the analysis should be received within 30 days of the date of pu8blication of this notice in the Federal Register. The draft environmental impact statement is expected November of 2002 and the final environmental impact statement is expected February 2003.

ADDRESSES: Send written comments to the Ashton/Island Park Ranger District, Attn: Jim Cox/Becky Nedrow, Island Park Ranger Station, 3726 Highway 20, Island Park, ID.

FOR FURTHER INFORMATION CONTACT: Further information and questions concerning this proposed action and EIS contact Jim Cox at (208) 558-7301 or Becky Nedrow at (208) 652-7442. Jim can also be reached at jcox@fs.fed/us. Becky can be reached at bnedrow@fs.fed.us

SUPPLEMENTARY INFORMATION: The Douglas-fir and lodgepole pine forest types are included in the project area as are some sagebrush/grasslands. The Douglas-fir forest type occurs throughout the Centennial and Henrys Lake Mountains. Within the Douglas-fir type, mature forest makes up 79 percent of the forested areas. Because of the large component of mature Douglas-fir, severe first are a concern in these areas. The lodgepole pine forest type is primarily in the Island Park Caldera. Large areas of the lodgepole type were clearcut between 1960 and the late 1980's to salvage trees damaged or killed during a mountain pine bettle epidemic.

Purpose and Need for Action

A combination of accumulating fuels and increasing development on private lands along with existing residences under permit on the National Forest (National Forest summer homes) has led to an increase risk to human life and property from wildfire. The purpose of this project is to reduce the threat to human life and private property by reducing or removing the amount of woody material on National Forest System Lands adjacent to these private lands.

Proposed Action

The Ashton/Island Park Ranger District of the Caribou-Targhee National Forest is proposing a hazardous fuels reduction project located in the Island Park area of eastern Idaho. Implementation is expected to start in 2003 and continue through 2005. The project would create fuel breaks along the interface (boundary) between public and private lands (urban interface). These fuel breaks would reduce the risk to private lands from wildfire and provide for greater public and firefighter safety. The project includes only National Forest System Lands adjacent to private land, developed campgrounds, and those summer home areas under special use permit on the National Forest. No private or State land would be treated.

Proposed activities include:

• Thinning of small diameter noncommercial size trees

• Hand piling of thinning and other slash followed by burning

• Public firewood gathering

• Removal of fuels by private contractors

• Commercial timber sales (total volume from the project area is estimated at less than 1 million board feet with only temporary road construction)

• Prescribed burning where it is safe and at minimal risk to private property with appropriate involvement of property owners

Responsible Official

Jerry B. Reese, Forest Supervisory, Caribou-Targhee National Forest is the responsible official for this EIS.

Nature of Decision To Be Made

The Forest Supervisor will decide on whether to implement one of the alternatives for hazardous fuels reduction or defer any action at this time.

Scoping Process

Public scoping will be completed through letters, news releases, and public meetings. The meeting may be held in Idaho Falls or Island Park.

Preliminary Issues

Preliminary Issues identified are:

• Public safety

• Effects on visual quality of private property adjacent to National Forest land

• Reduction of wildlife hiding cover

• Risk to private property by burning to remove fuels

• Heritage resources

• Unauthorized structures or personal property on National Forest System lands

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)
Dated: April 18, 2002.
Jerry B. Reese,
Forest Supervisor.

[FR Doc. 02-11383 Filed 5-7-02; 8:45 am]

BILLING CODE 3410-11-M